FEDERAL COMMUNICATIONS COMMISSION

Sunshine Act Meeting; Deletion of Agenda Item From November 3, 2006, Open Meeting

November 2, 2006.

The following item has been deleted from the list of Agenda items scheduled for consideration at the Friday, November 3, 2006, Open Meeting.

4 | Wireline Competition | Title: AT&T Inc. and BellSouth Corporation Application for Transfer of Control (WC Docket No. 06-74).
|  | Summary: The Commission will consider a Memorandum Opinion and Order regarding the transfer of control application of AT&T and BellSouth.

Federal Communications Commission.
William F. Canton,
Deputy Secretary.

[FR Doc. 06-9114 Filed 11-3-06; 10:58 am]

BILLING CODE 6712-01-M